ENVIRONMENTAL PROTECTION AGENCY

40 CFR Part 52

[Docket No. EPA-R02-OAR-2008-0005; FRL-8537-8]

Approval and Promulgation of Implementation Plans; Motor Vehicle Emissions Budgets; State of New Jersey

AGENCY: Environmental Protection Agency (EPA).

ACTION: Proposed rule.

SUMMARY: The Environmental Protection Agency (EPA) is proposing to approve a State Implementation Plan (SIP) revision submitted by the State of New Jersey. This revision updates the direct PM2.5 and NOX motor vehicle emissions budgets for Mercer County, located within the New Jersey portion of the New York-Northern New Jersey-Long Island, NY-NJ-CT, PM2.5 nonattainment area. The intended effect of this rulemaking is to approve budgets that will be used to determine transportation conformity.

DATES: Comments must be received on or before April 4, 2008.

ADDRESSES: Submit your comments, identified by Docket ID No. EPA-R02-OAR-2008-0005, by one of the following methods:

http://www.regulations.gov: Follow the on-line instructions for submitting comments.

E-mail: Werner.Raymond@epa.gov.

Fax: 212-637-3901.

Mail: Raymond Werner, Chief, Air Programs Branch, Environmental Protection Agency, Region 2 Office, 290 Broadway, 25th Floor, New York, New York 10007-1866.

Hand Delivery: Raymond Werner, Chief, Air Programs Branch, Environmental Protection Agency, Region 2 Office, 290 Broadway, 25th Floor, New York, New York 10007-1866. Such deliveries are only accepted during the Regional Office's normal hours of operation. The Regional Office's official hours of business are Monday through Friday, 8:30 to 4:30 excluding Federal holidays.

Instructions: Direct your comments to Docket ID No. EPA-R02-OAR-2008-0005. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region II Office, Air Programs Branch, 290 Broadway, 25th Floor, New York, New York 10007-1866. EPA requests, if at all possible, that you contact the individual listed in the FOR FURTHER INFORMATION CONTACT section to view the hard copy of the docket. You may view the hard copy of the docket Monday through Friday, 8 a.m. to 4 p.m., excluding Federal holidays.

FOR FURTHER INFORMATION CONTACT: Matthew Laurita, laurita.matthew@epa.gov at the U.S. Environmental Protection Agency, Air Programs Branch, 290 Broadway, 25th Floor, New York, NY 10007-1866, telephone number (212) 637-3895, fax number (212) 637-3901.

SUPPLEMENTARY INFORMATION: This action is being proposed under a procedure called parallel processing. Under parallel processing, EPA proposes action on a state submission before it has been formally adopted and submitted to EPA, and then takes final action if: (1) The state's final submission is substantially unchanged from the submission on which this proposal is based, or (2) if significant changes in the state's final submission are anticipated and adequately described in EPA's proposal as a basis for EPA's proposed action.

Table of Contents

I. Analysis of the State's Submittal

II. Proposed EPA Action

III. Statutory and Executive Order Reviews

I. Analysis of the State's Submittal

On December 17, 2007, New Jersey submitted a state implementation plan (SIP) revision to EPA updating the existing motor vehicle emissions budgets (MVEBs) for the Mercer County, New Jersey portion of the New York-Northern New Jersey-Long Island, NY-NJ-CT, PM2.5 nonattainment area. MVEBs represent a cap that projected emissions from existing and planned highway and transit projects may not exceed. The emissions from transportation projects are evaluated through a metropolitan planning organization's (MPO's) process for determining the long-range transportation needs of a region, and its process for scheduling projects to be completed in the short term.

New Jersey is revising the budgets for Mercer County to incorporate new planning assumptions. Since the original PM2.5 MVEBs were approved by EPA (71 FR 38770, July 10, 2006), New Jersey discovered an error that underestimated the fraction of all vehicle miles traveled attributable to the heaviest category of heavy-duty trucks. The MPO responsible for transportation planning in Mercer County, the Delaware Valley Regional Planning Commission (DVRPC), is required to incorporate this updated assumption in its emissions modeling process. Approval of the revised MVEB will ensure consistency between the budget and DVRPC's planning process.

EPA allows for the establishment of MVEBs for PM2.5 prior to a state submitting its first required PM2.5 SIP (69 FR 40004, July 1, 2004, specifically see 69 FR 40028). These budgets are set through the establishment of an early SIP, which meets all the requirements of a SIP submittal, in which emissions from all sources, when projected from the base to a future year, show some progress toward attainment. EPA has interpreted the phrase “some progress toward attainment” to mean a 5% to 10% reduction in emissions from all sources (see 69 FR 40019). In New Jersey's original early progress SIP, the State demonstrated an overall 6.5% reduction in direct PM2.5 and 32.3% reduction in NOX, a PM2.5 precursor, from 2002 to 2009 within the New Jersey portion of the New York-Northern New Jersey-Long Island, NY-NJ-CT PM2.5 nonattainment area. Using the new assumptions, the State has shown reductions of 6.3% and 32.0% from 2002 to 2009 for direct PM2.5 and NOX, respectively; therefore, EPA has determined that the revised MVEBs still satisfy the early progress requirements and are approvable. Once approved, the revised MVEBs will supersede the existing PM2.5 MVEBs for Mercer County, New Jersey (Table 1).

Table 1.—Existing and Proposed 2009 PM2.5 Motor Vehicle Emissions Budgets for Mercer County, New Jersey
[Tons per year]
Pollutant | Direct PM2.5 | NOX
Existing | 89 | 4,328
Proposed | 108 | 5,056

II. Proposed EPA Action

EPA is proposing to approve revisions to the PM2.5 motor vehicle emissions budgets for Mercer County, New Jersey.

III. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the CAA. This proposed rule also is not subject to Executive Order 13045 “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Incorporation by reference, Intergovernmental relations, Nitrogen dioxide, Particulate matter, Reporting and recordkeeping requirements.

Authority: 42 U.S.C. 7401 et seq.

Dated: February 25, 2008.
Alan J. Steinberg,
Regional Administrator, Region 2.

[FR Doc. E8-4233 Filed 3-4-08; 8:45 am]

BILLING CODE 6560-50-P